DEPARTMENT OF COMMERCE

International Trade Administration

Environmental Technologies Trade Advisory Committee, Notice of Reestablishment

AGENCY: International Trade Administration, Commerce.

ACTION: Notice of reestablishment of the Environmental Technologies Trade Advisory Committee (ETTAC).

SUMMARY: Pursuant to provisions under Title IV of the Jobs Through Trade Expansion Act, 22. U.S.C. 2151, and under the Federal Advisory Committee Act, 5 U.S.C. App. 2, the Department of Commerce announces the reestablishment of the Environmental Technologies Trade Advisory Committee (the Committee). ETTAC was first chartered on May 31, 1994. ETTAC serves as an advisory body to the Environmental Trade Working Group of the Trade Promotion Coordinating Committee (TPCC), reporting directly to the Secretary of Commerce in his/her capacity as Chairman of the TPCC. ETTAC advises on the development and administration of policies and programs to expand U.S. exports of environmental technologies, goods, and services.

FOR FURTHER INFORMATION CONTACT: Ms. Maureen Hinman, Office of Energy & Environmental Industries (OEEI), International Trade Administration, Room 4053, 1401 Constitution Avenue NW., Washington, DC 20230. (Phone: 202-482-0627; Fax: 202-482-5665; email: maureen.hinman@trade.gov).

Dated: October 17, 2016.
Edward A. O'Malley,
Director, Office of Energy and Environmental Industries.

[FR Doc. 2016-25524 Filed 10-20-16; 8:45 am]

BILLING CODE 3510-DR-P